ENVIRONMENTAL PROTECTION AGENCY

[FRL OP-OFA-113]

Environmental Impact Statements; Notice of Availability

Responsible Agency: Office of Federal Activities, General Information 202-564-5632 or https://www.epa.gov/nepa.

Weekly receipt of Environmental Impact Statements (EIS)

Filed February 16, 2024 10 a.m. EST Through February 26, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240032, Draft, NOAA, HI, Proposed Papahānaumokuākea National Marine Sanctuary Draft Environmental Impact Statement, Comment Period Ends: 05/07/2024, Contact: Ellie Roberts 240-533-0676.

EIS No. 20240033, Final, BOEM, MA, New England Wind Project, Review Period Ends: 04/01/2024, Contact: Lindy Nelson 571-789-6485.

EIS No. 20240034, Draft, USA, BLM, AZ, Legislative Environmental Impact Statement Regarding Proposed Public Land Withdrawal in Vicinity of Arizona State Route 95, Yuma Proving Ground, Arizona, Comment Period Ends: 04/15/2024, Contact: Daniel Steward 928-328-2125.

EIS No. 20240035, Draft, BOP, KY, Proposed Development of a New Federal Correctional Institution and Federal Prison Camp—Letcher County, Kentucky, Comment Period Ends: 04/15/2024, Contact: Kimberly Hudson 202-451-7046.

EIS No. 20240036, Final, DOE, MI, ADOPTION—GENERIC—License Renewal of Nuclear Plants Supplement 27 to NUREG-1437 Regarding Palisade Nuclear Plant (TAC NO. MC6434) Located in Covert Township Van Buren County MI, Review Period Ends: 04/01/2024, Contact: Alicia Williamson 202-526-7272.

The Department of Energy (DOE) has adopted the Nuclear Regulatory Commission's Final EIS No. 20060432 filed 10/13/2006 with the Environmental Protection Agency. The DOE was not a cooperating agency on this project. Therefore, republication of the document is necessary under Section 1506.3(b)(1) of the CEQ regulations.

Amended Notice

EIS No. 20240002, Draft, BOEM, NY, New York Bight, Comment Period Ends: 03/13/2024, Contact: Jill Lewandowski 703-787-1703.

Revision to FR Notice Published 01/12/2024; Extending the Comment Period from 02/26/2024 to 03/13/2024.

Dated: February 26, 2024.
Julie Smith,
Acting Director, NEPA Compliance Division, Office of Federal Activities.

[FR Doc. 2024-04346 Filed 2-29-24; 8:45 am]

BILLING CODE 6560-50-P